DEPARTMENT OF THE INTERIOR

Bureau of Indian Affairs

[256A2100DD/AAKC001030/A0A501010.999900]

Land Acquisitions; Scotts Valley Band of Pomo Indians, Vallejo Site, Solano County, California

AGENCY: Bureau of Indian Affairs, Interior.

ACTION: Notice.

SUMMARY: The Principal Deputy Assistant Secretary—Indian Affairs, exercising authority by delegation of the Assistant Secretary—Indian Affairs, made a final agency determination to acquire in trust 160.333 acres, more or less, of land known as the Vallejo Site in Solano County, California, for the Scotts Valley Band of Pomo Indians for gaming and other purposes.

DATES: This final determination was made on January 10, 2025.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: The Principal Deputy Assistant Secretary—Indian Affairs, exercising authority by delegation of the Assistant Secretary—Indian Affairs, took this action under the authority of the Indian Reorganization Act of June 18, 1934, 25 U.S.C. 5108.

The Principal Deputy Assistant Secretary—Indian Affairs, exercising authority by delegation of the Assistant Secretary—Indian Affairs, on behalf of the Secretary of the Interior, will immediately acquire the title to the site in the name of the United States of America in trust for the Scotts Valley Band of Pomo Indians upon fulfillment of all Departmental requirements. The 160.333 acres, more or less, are described as follows:

Legal Description of Property

GRANT DEED RECORDED MARCH 15, 2016, DOCUMENT NO. 2016-00020200

THE LAND REFERRED TO HEREIN BELOW IS SITUATED IN THE CITY OF VALLEJO, COUNTY OF SOLANO, STATE OF CALIFORNIA AND IS DESCRIBED AS FOLLOWS:

THAT CERTAIN PARCEL OF LAND DELINEATED ON THE MAP ENTITLED “RECORD OF SURVEY OF A PARCEL OF LAND EAST OF U.S. 40 AND NORTH OF COLUMBUS PARKWAY, VALLEJO, CALIFORNIA”, MADE BY EDWARD F. SCHWAFEL, ENGINEER, INC., FILED IN THE OFFICE OF THE COUNTY RECORDER OF SOLANO COUNTY, CALIFORNIA, ON JULY 28, 1965, IN BOOK 9 OF SURVEYS, AT PAGE 61.

EXCEPTING THEREFROM AN UNDIVIDED 11/24 INTEREST IN AND TO ALL OIL, GAS, ASPHALTUM, HYDROCARBONS, MINERALS AND KINDRED SUBSTANCES IN AND UNDER SAID LAND BELOW THE DEPTH OF 500 FEET FROM THE SURFACE THEREOF, BUT WITHOUT THE RIGHT OF ENTRY UPON OR THROUGH THE SURFACE OF SAID LANDS AS RESERVED IN THE DEED DATED NOVEMBER 1, 1965, RECORDED NOVEMBER 12, 1965, IN BOOK 1368 OF OFFICIAL RECORDS, PAGE 280, INSTRUMENT NO. 31220, EXECUTED BY HENRY SHAPRIO, ET AL, TO ROBERT LANRER, ET UX.

ALSO EXCEPTING THEREFROM UNDIVIDED 13/24 INTEREST IN AND TO ALL OIL, GAS, ASPHALTUM, HYDROCARBONS, MINERALS AND KINDRED SUBSTANCES IN AND UNDER SAID LAND BELOW A DEPTH OF 500 FEET FROM THE SURFACE THEREOF BUT WITHOUT THE RIGHT OF ENTRY UPON OR THROUGH THE SURFACE OF SAID LANDS AS RESERVED IN THE DEED EXECUTED BY ROBERT LARNER AND BEVERLY LARNER, HIS WIFE, DATED DECEMBER 31, 1968 AND RECORDED DECEMBER 31, 1968, IN BOOK 1542 OF OFFICIAL RECORDS, PAGE 397, INSTRUMENT NO. 23899.

ALSO EXCEPTING THEREFROM THE PARCEL OF LAND DESCRIBED AS PARCEL 10A IN THE FINAL ORDER OF CONDEMNATION HAD ON APRIL 14, 1972 IN THE SUPERIOR COURT, SOLANO COUNTY, CASE NO. 50096, A CERTIFIED COPY OF WHICH WAS RECORDED APRIL 14, 1972, IN BOOK 1744 OF OFFICIAL RECORDS, AT PAGE 151, INSTRUMENT NO. 8056.

ALSO EXCEPTING THEREFROM THE PARCEL OF LAND DESCRIBED IN THE GRANT DEED FROM CHARLES G. MOYER AND DIANE E. MOYER, HUSBAND AND WIFE, TO THE STATE OF CALIFORNIA, DATED SEPTEMBER 22, 1980 AND RECORDED DECEMBER 4, 1980, INSTRUMENT NO. 53746, PAGE 88104, SOLANO COUNTY RECORDS.

APN: 0182-010-010

QUITCLAIM DEED RECORDED January 11, 2024, Instrument No. 202400001365

THE LAND DESCRIBED HEREIN IS SITUATED IN THE STATE OF CALIFORNIA, COUNTY OF SOLANO, CITY OF VALLEJO, DESCRIBED AS FOLLOWS:

PARCEL ONE

BEGINNING AT THE POINT OF INTERSECTION OF THE NORTHERLY LINE OF COLUMBUS PARKWAY (COUNTY ROAD NO. 233) WITH THE WESTERLY LINE OF PARCEL 1 OF THE RECORD OF SURVEY OF THE UPPER AND MIDDLE HUNTER RANCHES, FILED FOR RECORD 17 MARCH, 1965 IN BOOK 9 OF SURVEYS AT PAGE 42, SOLANO COUNTY RECORDS; THENCE 650 FEET EASTERLY, ALONG THE NORTHERLY LINE OF COLUMBUS PARKWAY TO THE SOUTHWEST CORNER OF PARCEL A; THENCE; THENCE NORTHERLY 650.00 FEET ALONG THE WESTERLY LINE OF PARCEL A; THENCE WESTERLY AT 90° TO THE PROCEEDING COURSE 629.29 FEET TO THE WESTERLY LINE OF SAID PARCEL 1; THENCE SOUTH 12°02′48″ WEST, 651.32 FEET TO THE POINT OF BEGINNING.

PARCEL TWO

COMMENCING AT THE POINT OF INTERSECTION OF THE NORTHERLY LINE OF COLUMBUS PARKWAY (COUNTY ROAD NO. 233), WITH THE WESTERLY LINE OF PARCEL 1 OF THE RECORD OF SURVEY OF THE UPPER & MIDDLE HUNTER RANCHES, FILED FOR RECORD 17 MARCH, 1965, IN BOOK 9 OF SURVEYS AT PAGE 42, SOLANO COUNTY RECORDS; THENCE 650 FEET EASTERLY ALONG THE NORTHERLY LINE OF COLUMBUS PARKWAY TO THE TRUE POINT OF BEGINNING; THENCE NORTHERLY AT RIGHT ANGLES TO THE NORTHERLY RIGHT-OF-WAY LINE OF COLUMBUS PARKWAY, 950 FEET; THENCE EASTERLY, 950 FEET; THENCE SOUTHERLY, 950 FEET TO THE NORTHERLY LINE OF COLUMBUS PARKWAY; THENCE WESTERLY 950 FEET TO THE TRUE POINT OF BEGINNING.

EXCEPTING THEREFROM:

THAT PORTION OF THE HEREIN DESCRIBED PROPERTY AS DESCRIBED IN THE AMENDED FINAL JUDGEMENT IN CONDEMNATION PURSUANT TO STIPULATION SUPERIOR COURT CASE NO. 48484, RECORDED SEPTEMBER 7, 1970, IN BOOK 1643 OF OFFICIAL RECORDS, AT PAGE 112, AS INSTRUMENT NO. 16338.

PARCEL THREE

THAT PORTION OF THE PARCEL OF LAND SHOWN AS 301.669 +/− ACRES LYING NORTH OF THE CENTERLINE ST. JOHN'S MINE ROAD IN BOOK 15 OF SURVEYS AT PAGE 18, SOLANO COUNTY RECORDS DESCRIBED AS FOLLOWS:

BEGINNING AT THE NORTHWESTERLY CORNER OF PARCEL A SHOWN AS “N.D.S DEV. CORP., BOOK 1796 O.R. PAGE 333 S.C.R.” IN BOOK 15 OF SURVEYS AT PAGE 18, SOLANO COUNTY RECORDS; THENCE NORTH 57°28′48″ WEST, 280.54 FEET; THENCE NORTH 88°25′41″ WEST, 464.40 FEET; THENCE SOUTH 17°42′05″ EAST, 224.00 FEET; THENCE SOUTH 12°02′48″ WEST, 159.71 FEET; THENCE SOUTH 81°42′05″ EAST, 629.29 FEET; THENCE NORTH 8°17′55″ EAST, 300.00 FEET TO THE POINT OF BEGINNING.

APN: 0182-020-010 (AFFECTS PARCEL ONE), 0182-020-020 (AFFECTS PARCEL TWO), 0182-020-080 (AFFECTS PARCEL THREE)

Authority: This notice is published in the exercise of authority delegated by the Secretary of the Interior to the Assistant Secretary—Indian Affairs by part 209 Departmental Manual 8.1. This notice is published to comply with the requirements of 25 CFR 151.13 (c)(2)(ii) that notice of the decision to acquire land in trust be promptly provided in the Federal Register.

Wizipan Garriott,
Principal Deputy Assistant Secretary—Indian Affairs, Exercising by Delegation the Authority of the Assistant Secretary—Indian Affairs.

[FR Doc. 2025-00744 Filed 1-14-25; 8:45 am]

BILLING CODE 4337-15-P